NATIONAL FOUNDATION ON THE ARTS AND THE HUMANITIES

Meeting of the National Museum Services Board and the National Commission on Libraries and Information Science

AGENCY: Institute of Museum and Library Services.

ACTION: Notice of meeting.

SUMMARY: This notice sets forth the agenda of a forthcoming meeting of the National Museum Services Board and the National Commission on Libraries and Information Science. This notice also describes the function of the boards. Notice of this meeting is required under the Government through the Sunshine Act (Public Law 94-409) and regulations of the Institute of Museum and Library Services, 45 CFR 1180.84.

TIME/DATE: 1:30 pm-4:30 pm on Thursday, September 13, 2001.

STATUS: Open.

ADDRESSES: The Conference Room at Old Sturbridge Village, One Old Sturbridge Village Road, Sturbridge, MA 01566, (508) 347-3362.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The United States National Commission on Libraries and Information Science (NCLIS) is established under Public Law 91-345 as amended, The National Commission on Libraries and Information Science Act. In accordance with section 5(b) of the Act, the commission has the responsibility for advising the Director of the Institute of Museum and Library Services on general policies relating to library services.

The meeting on Thursday, September 13, 2001 will be open to the public. If you need special accommodations due to a disability, please contact: Institute of Museum and Library Services, 1100 Pennsylvania Avenue, NW., Washington, DC 20506—(202) 606-8536—TDD (202) 606-8638 at least seven (7) days prior to the meeting date.

Agenda

5th Annual Meeting of The National Museum Services Board and The National Commission on Libraries and Information Science in The Conference Room of Old Sturbridge Village, One Old Sturbridge Village Road, Sturbridge, MA 01566 on Thursday, September 13, 2001

1:30 pm-4:30 pm

I. The Chairs' Welcome and Minutes of the 4th Annual Meeting.

II. Director's Welcome and Opening Remarks.

III. Museum/Library Collaboration: A Case Study.

IV. National Leadership Grants.

a. Analysis: National Leadership Grants 2001.

b. Panel and Field Review Process.

c. Discussion: Emerging Issues and Opportunities.

V. 21st Century Learner: Conference Preview.

VI. National Award for Museum Service/National Award for Library Service.

VII. Budget Update: New Opportunities.

Dated: August 16, 2001.
Linda Bell,
Director of Policy, Planning and Budget, National Foundation on the Arts and Humanities, Institute of Museum and Library Services.

[FR Doc. 01-21313 Filed 8-20-01; 2:11 pm]

BILLING CODE 7036-01-M